DEPARTMENT OF HEALTH AND HUMAN SERVICES

National Institutes of Health

National Institute of Mental Health; Amended Notice of Meeting

Notice is hereby given of a change in the meeting of the Subcommittee for Planning the Annual Strategic Plan Updating Process of the Interagency Autism Coordinating Committee (IACC), March 17, 2009, 12 p.m. to 3 p.m. Eastern Time at the National Institutes of Health, 31 Center Drive, Building 31, C Wing, 6th Floor, Conference Room 10, Bethesda, MD 20892 which was published in the Federal Register on March 9, 2009, 74 FR 10059.

The meeting location has been changed. The meeting will be held in the Neuroscience Building, 6001 Executive Boulevard, Conference Room A, Rockville, MD 20852. The time remains the same. The meeting will be open to the public with attendance limited to space available. The meeting will also be open to the public through a conference call phone number (Dial: 888-455-2920 and Access code: 3857872).

Dated: March 11, 2009.
Jennifer Spaeth,
Director, Office of Federal Advisory Committee Policy.

[FR Doc. E9-5970 Filed 3-18-09; 8:45 am]

BILLING CODE 4140-01-P